DEPARTMENT OF ENERGY

Federal Energy Regulatory Commission

[Project No. 2879-012]

Green Mountain Power; Notice of Meeting

a. Project Name and Number: Bolton Falls Hydroelectric Project No. 2879-012.

b. Applicant: Green Mountain Power (GMP).

c. Date and Time of Meeting: February 23, 2022 at 10:00 a.m. EST.

d. FERC Contact: Michael Tust, (202) 502-6522, michael.tust@ferc.gov.

e. Purpose of Meeting: Commission staff will hold a teleconference with staff from GMP and the Vermont State Historic Preservation Office to discuss the status of pending revisions to GMP's Historic Properties Management Plan and a projected schedule for finalizing and signing a Programmatic Agreement.

f. All local, state, and federal agencies, Indian tribes, and other interested parties are invited to attend the meeting. Please call or email Michael Tust at (202) 502-6522 or michael.tust@ferc.gov by February 18, 2022 at 4:30 p.m. EST, to RSVP and to receive specific instructions on how to participate.

Dated: February 7, 2022.
Kimberly D. Bose,
Secretary.

[FR Doc. 2022-02954 Filed 2-10-22; 8:45 am]

BILLING CODE 6717-01-P